DEPARTMENT OF TRANSPORTATION

Federal Transit Administration

[Docket No. FTA-2009-0026]

Notice of Request for Extension of a Currently Approved Information Collection

AGENCY: Federal Transit Administration, DOT.

ACTION: Notice of request for comments.

SUMMARY: In accordance with the Paperwork Reduction Act of 1995, this notice announces the intention of the Federal Transit Administration (FTA) to request the Office of Management and Budget (OMB) to approve the extension of the currently approved information collection: Tribal Transit Program.

DATES: Comments must be submitted before July 13, 2009.

ADDRESSES: To ensure that your comments are not entered more than once into the docket, submit comments identified by the docket number by only one of the following methods:

1. Web site: http://www.regulations.gov. Follow the instructions for submitting comments on the U.S. Government electronic docket site. (Note: The U.S. Department of Transportation's (DOT's) electronic docket is no longer accepting electronic comments.) All electronic submissions must be made to the U.S. Government electronic docket site at http://www.regulations.gov. Commenters should follow the directions below for mailed and hand-delivered comments.

2. Fax: 202-493-2251.

3. Mail: U.S. Department of Transportation, 1200 New Jersey Avenue, S.E., Docket Operations, M-30, West Building, Ground Floor, Room W12-140, Washington, DC 20590-0001.

4. Hand Delivery: U.S. Department of Transportation, 1200 New Jersey Avenue, SE., Docket Operations, M-30, West Building, Ground Floor, Room W12-140, Washington, DC 20590-0001 between 9 a.m. and 5 p.m., Monday through Friday, except federal holidays.

Instructions: You must include the agency name and docket number for this notice at the beginning of your comments. Submit two copies of your comments if you submit them by mail. For confirmation that FTA has received your comments, include a self-addressed stamped postcard. Note that all comments received, including any personal information, will be posted and will be available to Internet users, without change, at http://www.regulations.gov. You may review DOT's complete Privacy Act Statement in the Federal Register published April 11, 2000, (65 FR 19477), or you may visit http://www.regulations.gov. Docket: For access to the docket to read background documents and comments received, go to http://www.regulations.gov at any time. Background documents and comments received may also be viewed at the U.S. Department of Transportation, 1200 New Jersey Avenue S.E., Docket Operations, M-30, West Building, Ground Floor, Room W12-140, Washington, DC 20590-0001 between 9 a.m. and 5 p.m., Monday through Friday, except federal holidays.

FOR FURTHER INFORMATION CONTACT: Ms. Lorna Wilson, Office of Program Management, (202) 366-0893, or e-mail: lorna.wilson@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Tribal Transit Program (OMB Number: 2132-0567).

Background: FTA's Tribal Transit Program provides financial assistance to federally recognized Indian tribes for public transportation services on and around Indian reservations located in rural areas. Eligibility is based on the statutory provisions of 49 U.S.C. 5311—Nonurbanized Area Formula Program. The provisions of the American Recovery and Reinvestment Act of 2009, Title 49 U.S.C. 5311, 49 CFR Part 18—Uniform Administrative Requirements for Grants and Cooperative Agreements to State and Local Governments (the Common Grant Rule), and prudent administration of federal grant funds dictate that grantor agencies review applications for federal assistance to assure eligibility and other criteria, as appropriate, and monitor approved projects to ensure timely expenditure of federal funds by grant recipients. Information collected under this program is structured to comply with federal mandates. The reporting requirements are submitted by recipients in two stages: The application stage and the project management stage.

The American Recovery and Reinvestment Act of 2009 (ARRA) established funding for the Tribal Transit Program. This program is a $17,000,000 discretionary grant program to support capital investments for public transit services that serve Indian tribes and Alaska Native villages.

To meet the requirements of the ARRA, FTA requested an emergency approval from OMB for the Tribal Transit Program. OMB approved FTA's emergency request on March 17, 2009. FTA published a Federal Register notice on March 23, 2009, for Public Transportation on Indian Reservations Program; Tribal Transit Program Under the American Recovery and Reinvestment Act of 2009.

Respondents: State and local governments, tribal governments, businesses or other for-profit institutions, non-profit institutions and small business organizations.

Estimated Annual Burden on Respondents: Approximately 45 hours for each of the 71 respondents.

Estimated Total Annual Burden: 3,195 hours.

Frequency: Annual.

Issued: May 7, 2009.
Ann M. Linnertz,
Associate Administrator for Administration.

[FR Doc. E9-11142 Filed 5-12-09; 8:45 am]

BILLING CODE 4910-57-P